FEDERAL COMMUNICATIONS COMMISSION

Public Information Collection(s) Requirement Submitted to OMB for Emergency Review and Approval

November 2, 2004.

SUMMARY: The Federal Communications Commission, as part of its continuing effort to reduce paperwork burden invites the general public and other Federal agencies to take this opportunity to comment on the following information collection(s), as required by the Paperwork Reduction Act of 1995, Public Law 104-13. An agency may not conduct or sponsor a collection of information unless it displays a currently valid control number. No person shall be subject to any penalty for failing to comply with a collection of information subject to the Paperwork Reduction Act (PRA) that does not display a valid control number. Comments are requested concerning: (a) Whether the proposed collection of information is necessary for the proper performance of the functions of the Commission, including whether the information shall have practical utility; (b) the accuracy of the Commission's burden estimate; (c) ways to enhance the quality, utility, and clarity of the information collected; and (d) ways to minimize the burden of the collection of information on the respondents, including the use of automated collection techniques or other forms of information technology.

DATES: Written comments should be submitted on or before December 9, 2004. If you anticipate that you will be submitting comments, but find it difficult to do so within the period of time allowed by this notice, you should advise the contacts listed below as soon as possible.

ADDRESSES: Direct all comments to Kristy L. LaLonde, Office of Management and Budget (OMB), Room 10236 NEOB, Washington, DC 20503, (202) 395-3087 or via the Internet at Kristy_L._LaLonde@omb.eop.gov, and Les Smith, Federal Communications Commission, Room 1-A804, 445 12th Street, SW., Washington, DC 20554 or via Internet to Leslie.Smith@fcc.gov.

FOR FURTHER INFORMATION CONTACT: For additional information or copies of the information collections contact Les Smith at (202) 418-0217 or via Internet at Leslie.Smith@fcc.gov.

SUPPLEMENTARY INFORMATION: The Commission has requested emergency OMB review of this collection with an approval by November 12, 2004.

OMB Control Number: 3060-0185.

Type of Review: Revision of a currently approved collection.

Title: Section 73.3613, Filing of Contracts.

Form Number: N/A.

Respondents: Business or other for-profit entities; Not-for-profit institutions.

Number of Respondents: 2,300.

Estimated Hours per Response: 0.25 to 0.5 hours.

Frequency of Response: Recordkeeping; On occasion reporting requirements; Third party disclosure.

Total Annual Burden: 950 hours.

Total Annual Cost: $80,000.

Needs and Uses: In June 2003, the Commission adopted changes to 47 CFR Section 73.3613 and the FCC's attribution rules. As a result, radio stations must now file agreements for the sale of advertising time (i.e., “Joint Sales Agreements” or “JSAs”) that result in attribution under the Commission's multiple ownership rules. This section also requires certain contracts to be retained at the station and made available for inspection by the Commission upon request.

On June 24, 2004, the Court issued an Opinion and Judgment (“Remand Order”) in which it upheld certain aspects of the new ownership rules, including the attribution of JSAs among radio stations, while requiring further explanation for certain other aspects of the new rules. The Court stated that its prior stay of the new rules would remain in effect pending the outcome of the remand proceeding. The Commission has not yet responded to the Remand Order, but in the meantime the Commission filed a petition for rehearing requesting that the Court lift the stay partially—i.e., with respect to the radio ownership and JSA attribution rules which the Court's Remand Order upheld.

On September 3, 2004, the Court issued an Order (“Rehearing Order”) which partially granted the Commission's petition for rehearing, thus lifting the stay of the revised radio ownership and JSA attribution rules. As a result of the Rehearing Order, the Commission's revised radio ownership and JSA attribution rules took effect on September 3, 2004. Implementation of the new radio ownership and JSA attribution rules, as required by the Rehearing Order, triggers the requirement for certain licensees to begin filing JSAs.

47 CFR 73.3613 requires licensees of television and radio broadcast stations to file with the Commission: (a) Contracts relating to ownership or control and personnel; and (b) time brokerage agreements that result in arrangements being counted under the Commission's multiple ownership rules. Television stations also must file network affiliation agreements.

Federal Communications Commission.
Marlene H. Dortch,
Secretary.

[FR Doc. 04-24958 Filed 11-8-04; 8:45 am]

BILLING CODE 6712-01-P